FEDERAL COMMUNICATIONS COMMISSION

47 CFR Part 73

[DA 04-1734; MB Docket No. 04-237, RM-10996; MB Docket No. 04-238, RM-10997]

Radio Broadcasting Services; Gassville, AR and Nantucket, MA

AGENCY: Federal Communications Commission.

ACTION: Proposed rule.

SUMMARY: This document proposes two new allotments in Gassville, Arkansas and Nantucket, Massachusetts. The Audio Division requests comment on a petition filed by Northwest Arkansas Broadcasting Company, LLC proposing the allotment of Channel 224A at Gassville, as the community's first local service. Channel 224A can be allotted to Gassville in compliance with the Commission's minimum distance separation requirements with a site restriction of .7 kilometers (.4 miles) north of Gassville. The reference coordinates for Channel 224A at Gassville, Arkansas are 36-17-22 North Latitude and 92-29-43 West Longitude. See Supplementary Information, infra.

DATES: Comments must be filed on or before August 19, 2004, and reply comments on or before September 3, 2004.

ADDRESSES: Federal Communications Commission, 445 Twelfth Street, SW., Washington, DC 20554. In addition to filing comments with the FCC, interested parties should serve the petitioner, his counsel, or consultant, as follows: Scott A. Gray, Managing Member, Northwest Arkansas Broadcasting Company, LLC, 620 East 13th Street, Suite A, Texarkana, AR 71854, Paul B. Christensen, Esq., Law Offices of Paul B. Christensen, P.A., 3749 Southern Hills Drive, Jacksonville, Florida 32225.

FOR FURTHER INFORMATION CONTACT: Rolanda F. Smith, Media Bureau, (202) 418-2180.

SUPPLEMENTARY INFORMATION: This is a synopsis of the Commission's Notice of Proposed Rule Making, MB Docket Nos. 04-237, 04-238, adopted June 23, 2004 and released June 28, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160, or via e-mail http://www.BCPIWEB.com.

The Audio Division requests comments on a petition filed by Paul B. Christensen proposing the allotment of Channel 249A at Nantucket, Massachusetts, as the community's second FM commercial aural transmission service. Channel 249A can be allotted to Nantucket in compliance with the Commission's minimum distance separation requirements with a site restriction of .4 kilometers (.25 miles) north of Nantucket. The reference coordinates for Channel 249A at Nantucket are 41-17-12 North Latitude and 70-06-06 West Longitude.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Arkansas, is amended by adding Gassville, Channel 224A.

3. Section 73.202(b), the Table of FM Allotments under Massachusetts, is amended by adding Channel 249A at Nantucket.

Federal Communications Commission.
John A. Karousos,
Assistant Chief, Audio Division, Media Bureau.

[FR Doc. 04-16366 Filed 7-16-04; 8:45 am]

BILLING CODE 6712-01-P